DEPARTMENT OF HOMELAND SECURITY

[Docket No. DHS-2009-0156]

National Protection and Programs Directorate; Assessment Questionnaire—Voluntary Chemical Assessment Tool (VCAT)

AGENCY: National Protection and Programs Directorate, Department of Homeland Security.

ACTION: 30-Day Notice and request for comments; New Information Collection Request, 1670-NEW.

SUMMARY: The Department of Homeland Security, National Protection and Programs Directorate has submitted the following information collection request (ICR) to the Office of Management and Budget (OMB) for review and clearance in accordance with the Paperwork Reduction Act of 1995 (Pub. L. 104-13, 44 U.S.C. Chapter 35). The National Protection and Programs Directorate is soliciting comments concerning new collection request, Assessment Questionnaire—Voluntary Chemical Assessment Tool (VCAT). DHS previously published this information collection request (ICR) in the Federal Register on September 14, 2009, at 74 FR 47010, for a 60-day public comment period. No comments were received by DHS. The purpose of this notice is to allow an additional 30 days for public comments.

DATES: Comments are encouraged and will be accepted until March 1, 2010. This process is conducted in accordance with 5 CFR 1320.10.

ADDRESSES: Interested persons are invited to submit written comments on the proposed information collection to the Office of Information and Regulatory Affairs, Office of Management and Budget. Comments should be addressed to OMB Desk Officer, Department of Homeland Security and sent via electronic mail to oira_submission@omb.eop.gov or faxed to (202) 395-5806.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: The Department of Homeland Security (DHS), Amanda Norman, Program Analyst, DHS/NPPD/IP/IICD, Amanda.Norman@dhs.gov.

SUPPLEMENTARY INFORMATION: The DHS Sector Specific Agency (SSA) for the Chemical Sector partnered with the Methodology Technical Implementation (MTI) office, within the Infrastructure Information Collection Division (IICD), in the Office of Infrastructure Protection (IP), National Protection and Program Directorate (NPPD), which supports the automation of sector-approved risk and vulnerability assessment methodologies that are compliant with the criteria outlined in the National Infrastructure Protection Plan (NIPP), to develop a Web-based, automated assessment tool for voluntary use by chemical facilities. This application, titled Voluntary Chemical Assessment Tool (VCAT), allows owners/operators to identify their current vulnerability and risk levels through an all-hazards approach. The application enables owners/operators to evaluate the theoretical vulnerability and risk associated with the effects of the selected threats, thus allowing the Chemical Sector to more thoroughly understand, prioritize and analyze its assets or systems. VCAT facilitates cost benefit analysis, allowing owners/operators to select the best combination of physical security countermeasures and mitigation strategies to reduce overall risk. Collection of this information is directed and supported by Homeland Security Presidential Directive (HSPD) 7, “Critical Infrastructure Identification, Prioritization, and Protection,” December 17, 2003.

After Chemical SSA and private sector partners access the VCAT system (see supporting statement for VCAT User Accounts), the user will be prompted with the VCAT Assessment questionnaire and will answer various questions to input the data. This information will be used to supplement existing critical infrastructure and key resources (CIKR) protection activities conducted by DHS NPPD. More specifically, the information will be used to address facility assessments, response planning, and risk mitigation execution and related CIKR protection and incident management activities.

Analysis

Agency: Department of Homeland Security, National Protection and Programs Directorate.

Title: Assessment Questionnaire—Voluntary Chemical Assessment Tool (VCAT).

OMB Number: 1670-NEW.

Affected Public: Business or other for profit, Federal Government.

Number of Respondents: 50.

Estimated Time Per Respondent: 8 hours.

Total Burden Hours: 400 annual burden hours.

Total Burden Cost (capital/startup): $0.00.

Total Burden Cost (operating/maintaining): $0.00.

Signed: January 21, 2010.
Thomas Chase Garwood, III,
Chief Information Officer, National Protection and Programs Directorate, Department of Homeland Security.

[FR Doc. 2010-1780 Filed 1-28-10; 8:45 am]

BILLING CODE P